DEPARTMENT OF TRANSPORTATION

Federal Aviation Administration

14 CFR Part 39

[Docket No. FAA-2010-1242; Directorate Identifier 2010-CE-062-AD; Amendment 39-16542; AD 2010-26-03]

RIN 2120-AA64

Airworthiness Directives; Hawker Beechcraft Corporation Models B200, B200GT, B300, and B300C Airplanes

AGENCY: Federal Aviation Administration (FAA), DOT.

ACTION: Final rule; request for comments.

SUMMARY: We are superseding an existing airworthiness directive (AD) for the products listed above. That AD currently requires fabricating and installing a placard incorporating information that limits operation when there is known or forecast icing and requires replacing a section of the pneumatic supply tube for the tail deice system with a new tube of a different material. This AD requires fabricating and installing a placard incorporating information that limits operation when there is known or forecast icing and requires replacing the entire length of the pneumatic supply tube for the tail deice system with a new tube of a different material. This AD was prompted by reports of two failures of the pneumatic supply tube for the tail deice system outside the area covered by AD 2008-07-10. We are issuing this AD to prevent collapsed pneumatic supply tubes, which could result in failure of the tail deice boots to operate. This failure could lead to loss of control in icing conditions.

DATES: This AD is effective December 20, 2010.

The Director of the Federal Register approved the incorporation by reference of a certain publication listed in the AD as of December 20, 2010.

We must receive any comments on this AD by January 31, 2011.

ADDRESSES: You may send comments by any of the following methods:

• Federal eRulemaking Portal: Go to http://www.regulations.gov. Follow the instructions for submitting comments.

• Fax: 202-493-2251.

• Mail: U.S. Department of Transportation, Docket Operations, M-30, West Building Ground Floor, Room W12-140, 1200 New Jersey Avenue, SE., Washington, DC 20590.

• Hand Delivery: U.S. Department of Transportation, Docket Operations, M-30, West Building Ground Floor, Room W12-140, 1200 New Jersey Avenue, SE., Washington, DC 20590, between 9 a.m. and 5 p.m., Monday through Friday, except Federal holidays.

For service information identified in this AD, contact Hawker Beechcraft Corporation, P.O. Box 85, Wichita, Kansas 67201-0085; telephone: (800) 429-5372 or (316) 676-3140; Internet: www.hawkerbeechcraft.com. You may review copies of the referenced service information at the FAA, Small Airplane Directorate, 901 Locust St., Kansas City, MO 64106. For information on the availability of this material at the FAA, call (816) 329-4148.

Examining the AD Docket

You may examine the AD docket on the Internet at http://www.regulations.gov; or in person at the Docket Management Facility between 9 a.m. and 5 p.m., Monday through Friday, except Federal holidays. The AD docket contains this AD, the regulatory evaluation, any comments received, and other information. The street address for the Docket Office (phone: 800-647-5527) is in the ADDRESSES section. Comments will be available in the AD docket shortly after receipt.

FOR FURTHER INFORMATION CONTACT: Don Ristow, Aerospace Engineer, Wichita Aircraft Certification Office, 1801 Airport Road, Room 100, Wichita, Kansas 67209; telephone: (316) 946-4120; fax: (316) 946-4107; e-mail: donald.ristow@faa.gov.

SUPPLEMENTARY INFORMATION:

Discussion

On March 27, 2008, we issued AD 2008-07-10, Amendment 39-15451 (73 FR 18706, April 7, 2008), for certain Hawker Beechcraft Corporation Models B200, B200GT, B300, and B300C airplanes. That AD requires fabricating and installing a placard incorporating information that limits operation when there is known or forecast icing and requires replacing a section of the pneumatic supply tube for the tail deice system with a new tube of a different material. That AD resulted from reports of collapsed tail deice boot pneumatic supply tubes. We issued that AD to prevent collapsed pneumatic supply tubes, which could result in failure of the tail deice boots to operate. This failure could lead to loss of control in icing conditions.

Actions Since AD Was Issued

Since we issued AD 2008-07-10, we received reports of two failures of the pneumatic supply tube for the tail deice system outside the area covered by AD 2008-07-10 on an affected Model B300 airplane and on an affected Model B300C airplane.

Relevant Service Information

We reviewed Hawker Beechcraft Mandatory Service Bulletin SB 30-3889, Rev. 1, dated October 2010. The service information describes procedures for replacing the entire length of the pneumatic supply tube for the tail deice system with a new tube of a different material.

FAA's Determination

We are issuing this AD because we evaluated all the relevant information and determined the unsafe condition described previously is likely to exist or develop in other products of the same type design.

AD Requirements

This AD requires accomplishing the actions specified in the service information described previously.

FAA's Justification and Determination of the Effective Date

An unsafe condition exists that requires the immediate adoption of this AD. The FAA has found that the risk to the flying public justifies waiving notice and comment prior to adoption of this rule because this condition could result in failure of the tail deice boots to operate. This failure could lead to loss of control in icing conditions. Therefore, we find that notice and opportunity for prior public comment are impracticable and that good cause exists for making this amendment effective in less than 30 days.

Comments Invited

This AD is a final rule that involves requirements affecting flight safety, and we did not provide you with notice and an opportunity to provide your comments before it becomes effective. However, we invite you to send any written data, views, or arguments about this AD. Send your comments to an address listed under the ADDRESSES section. Include the docket number FAA-2010-1242 and directorate identifier 2010-CE-062-AD at the beginning of your comments. We specifically invite comments on the overall regulatory, economic, environmental, and energy aspects of this AD. We will consider all comments received by the closing date and may amend this AD because of those comments.

We will post all comments we receive, without change, to http://www.regulations.gov, including any personal information you provide. We will also post a report summarizing each substantive verbal contact we receive about this AD.

Costs of Compliance

We estimate that this AD affects 90 airplanes of U.S. registry.

We estimate the following costs to comply with this AD:

Estimated Costs
Action | Labor Cost | Parts cost | Cost per product | Cost on U.S. operators
Fabricate placard (retained action from AD 2008-07-10) | 1 work-hour × $85 per hour = $85 | Not applicable | $85 | $7,650
Replace entire length of the pneumatic supply tube for the tail de-ice system | 15 work-hours × $85 per hour = $1,275 | $100 | $1,375 | $123,750

According to the manufacturer, some of the costs of this AD may be covered under warranty, thereby reducing the cost impact on affected individuals. We do not control warranty coverage for affected individuals. As a result, we have included all costs in our cost estimate.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Is not a “significant rule” under DOT Regulatory Policies and Procedures (44 FR 11034, February 26, 1979),

(3) Will not affect intrastate aviation in Alaska, and

(4) Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. The FAA amends § 39.13 by removing airworthiness directive (AD) 2008-07-10, Amendment 39-15451 (73 FR 18706, April 7, 2008) and adding the following new AD:

2010-26-03 Hawker Beechcraft Corporation: Amendment 39-16542; Docket No. FAA-2010-1242; Directorate Identifier 2010-CE-062-AD.

Effective Date

(a) This AD is effective December 20, 2010.

Affected ADs

(b) This supersedes AD 2008-07-10; Amendment 39-15451.

Applicability

(c) This AD applies to the following Hawker Beechcraft Corporation airplanes that are certificated in any category:

Table 1—Affected Airplane Models and Serial Numbers
Model | Serial numbers
B200 | BB-1926, BB-1978, and BB-1988 through BB-2000.
B200GT | BY-1 through BY-26.
B300 | FL-427, FL-493, and FL-500 through FL-573.
B300C (C-12W) | FM-14 through FM-18.

Subject

(d) Joint Aircraft System Component (JASC)/Air Transport Association (ATA) of America Code 30, Ice and Rain Protection.

Unsafe Condition

(e) This AD was prompted by reports of failures of the pneumatic supply tube for the tail deice system outside the area covered by AD 2008-07-10. We are issuing this AD to prevent collapsed pneumatic supply tubes, which could result in failure of the tail deice boots to operate. This failure could lead to loss of control in icing conditions.

Compliance

(f) Comply with this AD within the compliance times specified, unless already done.

Table 2—Requirements of This AD
Actions | Compliance | Procedures
(1) Fabricate a placard (using at least 1/8-inch letters) with the following words and install the placard on the instrument panel within the pilot's clear view: “THIS AIRPLANE IS PROHIBITED FROM FLIGHT IN KNOWN OR FORECAST ICING.” | Before further flight in known or forecast icing conditions or within the next 3 days after December 20, 2010 (the effective of this AD), whichever occurs first | Not applicable.
(2) For Model B200 and Model B200GT airplanes: Replace the pneumatic supply tubing from the rear spar at Fuselage Station (FS) 227.00 to the aft pressure bulkhead at FS 347.750 with Hytrel tubing part number (P/N) 131823VH10D-1210; and for Model B300 and Model B300C airplanes: Replace pneumatic supply tubing from the rear spar at FS 241.40 to the aft pressure bulkhead at FS 381.750 with Hytrel tubing P/N 131823VH10D-1406. The replacement of tail deice boot pneumatic supply tubes required by paragraph (f)(2) of this AD is terminating action for the placard required by paragraph (f)(1) of this AD | Before further flight in known or forecast icing conditions, within 25 hours time-in-service (TIS) after December 20, 2010 (the effective date of this AD), or within 3 months after December 20, 2010 (the effective date of this AD), whichever occurs first | Follow the Accomplishment Instructions in Hawker Beechcraft Mandatory Service Bulletin SB 30-3889, Rev 1, dated October 2010.
(3) Remove the placard required by paragraph (f)(1) of this AD | Before further flight after the replacement of tail deice boot pneumatic supply tubes required by paragraph (f)(2) of this AD | Not applicable.

Credit for Actions Accomplished in Accordance With Previous Service Information

(g) If Hawker Beechcraft Mandatory Service Bulletin SB 30-3889, Issued: March 2008, has already been complied with, you may splice new Hytrel tubing on the existing Hytrel tubing in the aft evaporator bay area before further flight in known or forecast icing conditions, within 25 hours TIS after December 20, 2010 (the effective date of this AD), or within 3 months after December 20, 2010 (the effective date of this AD), whichever occurs first.

Alternative Methods of Compliance (AMOCs)

(h)(1) The Manager, Wichita Aircraft Certification Office (ACO), FAA, has the authority to approve AMOCs for this AD, if requested using the procedures found in 14 CFR 39.19. In accordance with 14 CFR 39.19, send your request to your principal inspector or local Flight Standards District Office, as appropriate. If sending information directly to the manager of the ACO, send it to the attention of the person identified in the Related Information section of this AD.

(2) Before using any approved AMOC, notify your Principal Maintenance Inspector or Principal Avionics Inspector, as appropriate, or lacking a principal inspector, your local Flight Standards District Office.

Related Information

(i) For more information about this AD, contact Don Ristow, Aerospace Engineer, Wichita ACO, 1801 Airport Road, Room 100, Wichita, Kansas 67209; telephone: (316) 946-4120; fax: (316) 946-4107; email: donald.ristow@faa.gov.

Material Incorporated by Reference

(j) You must use Hawker Beechcraft Mandatory Service Bulletin SB 30-3889, Rev. 1, dated October 2010, to do the actions required by this AD, unless the AD specifies otherwise.

(1) The Director of the Federal Register approved the incorporation by reference of this service information under 5 U.S.C. 552(a) and 1 CFR part 51.

(2) For service information identified in this AD, contact Hawker Beechcraft Corporation, P.O. Box 85, Wichita, Kansas 67201-0085; telephone: (800) 429-5372 or (316) 676-3140; Internet: http://www.hawkerbeechcraft.com.

(3) You may review copies of the service information at the FAA, Small Airplane Directorate, 901 Locust St., Kansas City, MO 64106. For information on the availability of this material at the FAA, call (816) 329-4148.

(4) You may also review copies of the service information that is incorporated by reference at the National Archives and Records Administration (NARA). For information on the availability of this material at an NARA facility, call 202-741-6030, or go to http://www.archives.gov/federal_register/code_of_federal_regulations/ibr_locations.html.

Issued in Kansas City, Missouri, on December 9, 2010.
John Colomy,
Acting Manager, Small Airplane Directorate, Aircraft Certification Service.

[FR Doc. 2010-31438 Filed 12-15-10; 8:45 am]

BILLING CODE 4910-13-P